DEPARTMENT OF ENERGY

Federal Energy Regulatory Commission

Combined Notice of Filings #1

Take notice that the Commission received the following electric rate filings:

Docket Numbers: ER23-2445-002.

Applicants: Midcontinent Independent System Operator, Inc., Ameren Illinois Company.

Description: Compliance filing: Midcontinent Independent System Operator, Inc. submits tariff filing per 35: 2024-09-03_Ameren Illinois Depreciation Rates Compliance Filing to be effective 9/1/2024.

Filed Date: 9/3/24.

Accession Number: 20240903-5113.

Comment Date: 5 p.m. ET 9/24/24.

Docket Numbers: ER24-2172-001.

Applicants: PJM Interconnection, L.L.C.

Description: Tariff Amendment: Response to Aug 2, 2024 Deficiency Notice re SA No. 1442 in ER24-2172 to be effective 8/3/2024.

Filed Date: 9/3/24.

Accession Number: 20240903-5150.

Comment Date: 5 p.m. ET 9/24/24.

Docket Numbers: ER24-2944-000.

Applicants: EDPR Scarlet I LLC.

Description: Baseline eTariff Filing: Certificate of Concurrence for LGIA Co-Tenancy Agreement to be effective 8/31/2024.

Filed Date: 8/30/24.

Accession Number: 20240830-5287.

Comment Date: 5 p.m. ET 9/20/24.

Docket Numbers: ER24-2945-000.

Applicants: EDPR Scarlet II BESS LLC.

Description: Baseline eTariff Filing: Certificate of Concurrence for LGIA Co-Tenancy Agreement to be effective 8/31/2024.

Filed Date: 8/30/24.

Accession Number: 20240830-5294.

Comment Date: 5 p.m. ET 9/20/24.

Docket Numbers: ER24-2946-000.

Applicants: EDPR Scarlet II LLC.

Description: Baseline eTariff Filing: Certificate of Concurrence for LGIA Co-Tenancy Agreement to be effective 8/31/2024.

Filed Date: 8/30/24.

Accession Number: 20240830-5297.

Comment Date: 5 p.m. ET 9/20/24.

Docket Numbers: ER24-2947-000.

Applicants: Entergy Arkansas, LLC.

Description: Tariff Amendment: EAL Cancellation of Service Agreement to be effective 9/1/2024.

Filed Date: 8/30/24.

Accession Number: 20240830-5306.

Comment Date: 5 p.m. ET 9/20/24.

Docket Numbers: ER24-2948-000.

Applicants: Mid-Atlantic Interstate Transmission, LLC, Keystone Appalachian Transmission Company, PJM Interconnection, L.L.C.

Description: 205(d) Rate Filing: Mid-Atlantic Interstate Transmission, LLC submits tariff filing per 35.13(a)(2)(iii: MAIT and KATCo submit amended IAs, SA Nos 2149 and 3743 to be effective 10/30/2024.

Filed Date: 8/30/24.

Accession Number: 20240830-5308.

Comment Date: 5 p.m. ET 9/20/24.

Docket Numbers: ER24-2949-000.

Applicants: PJM Interconnection, L.L.C.

Description: 205(d) Rate Filing: Amendment to WMPA No. 6423, AG1-197 to be effective 11/3/2024.

Filed Date: 9/3/24.

Accession Number: 20240903-5043.

Comment Date: 5 p.m. ET 9/24/24.

Docket Numbers: ER24-2950-000.

Applicants: PJM Interconnection, L.L.C.

Description: 205(d) Rate Filing: Amendment to WMPA No. 7006, AF2-221 to be effective 11/3/2024.

Filed Date: 9/3/24.

Accession Number: 20240903-5092.

Comment Date: 5 p.m. ET 9/24/24.

Docket Numbers: ER24-2951-000.

Applicants: NorthWestern Corporation.

Description: 205(d) Rate Filing: SA 1007—Conditional Firm PTP Trans. Service with PSE to be effective 9/5/2024.

Filed Date: 9/3/24.

Accession Number: 20240903-5115.

Comment Date: 5 p.m. ET 9/24/24.

Docket Numbers: ER24-2952-000.

Applicants: PJM Interconnection, L.L.C.

Description: 205(d) Rate Filing: Amendment to ISA, Service Agreement No. 6766; Queue No. AE2-241 to be effective 11/4/2024.

Filed Date: 9/3/24.

Accession Number: 20240903-5117.

Comment Date: 5 p.m. ET 9/24/24.

Docket Numbers: ER24-2953-000.

Applicants: Southwest Power Pool, Inc.

Description: 205(d) Rate Filing: Submission of Tariff Revisions to Implement Fuel Assurance Policy to be effective 10/1/2025.

Filed Date: 9/3/24.

Accession Number: 20240903-5118.

Comment Date: 5 p.m. ET 9/24/24.

Docket Numbers: ER24-2954-000.

Applicants: PJM Interconnection, L.L.C.

Description: 205(d) Rate Filing: Amendment to ISA, Service Agreement No. 6822; Queue No. AF1-328 to be effective 11/4/2024.

Filed Date: 9/3/24.

Accession Number: 20240903-5119.

Comment Date: 5 p.m. ET 9/24/24.

Docket Numbers: ER24-2955-000.

Applicants: PJM Interconnection, L.L.C.

Description: 205(d) Rate Filing: Amendment to WMPA No. 7094, AG1-041 to be effective 11/4/2024.

Filed Date: 9/3/24.

Accession Number: 20240903-5122.

Comment Date: 5 p.m. ET 9/24/24.

Docket Numbers: ER24-2956-000.

Applicants: Honeysuckle Solar, LLC.

Description: Baseline eTariff Filing: Rate Schedule for Reactive Supply and Voltage Control to be effective 12/15/2024.

Filed Date: 9/3/24.

Accession Number: 20240903-5168.

Comment Date: 5 p.m. ET 9/24/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: September 4, 2024.
Debbie-Anne A. Reese,
Acting Secretary.

[FR Doc. 2024-20406 Filed 9-9-24; 8:45 am]

BILLING CODE 6717-01-P